DEPARTMENT OF ENERGY

Federal Energy Regulatory Commission

[Docket No. IC14-12-000]

Commission Information Collection Activities (FERC Form 2 & 2A, & FERC-523); Consolidated Comment Request; Extension

AGENCY: Federal Energy Regulatory Commission, Department of Energy (DOE).

ACTION: Notice of information collections and request for comments.

SUMMARY: In compliance with the requirements of the Paperwork Reduction Act of 1995, 44 U.S.C. 3506(c)(2)(A), the Federal Energy Regulatory Commission (Commission or FERC) is soliciting public comment on the requirements and burden ¹ of the information collections described below.

¹ The Commission defines burden as the total time, effort, or financial resources expended by persons to generate, maintain, retain, or disclose or provide information to or for a Federal agency. For further explanation of what is included in the information collection burden, reference 5 Code of Federal Regulations 1320.3.

DATES: Comments on the collections of information are due July 14, 2014.

ADDRESSES: You may submit comments (identified by Docket No. IC14-12-000) by either of the following methods:

• eFiling at Commission's Web site: http://www.ferc.gov/docs-filing/efiling.asp

• Mail/Hand Delivery/Courier: Federal Energy Regulatory Commission, Secretary of the Commission, 888 First Street NE., Washington, DC 20426. Please reference the specific collection number and/or title in your comments.

Instructions: All submissions must be formatted and filed in accordance with submission guidelines at: http://www.ferc.gov/help/submission-guide.asp. For user assistance contact FERC Online Support by email at ferconlinesupport@ferc.gov, or by phone at: (866) 208-3676 (toll-free), or (202) 502-8659 for TTY.

Docket: Users interested in receiving automatic notification of activity in this docket or in viewing/downloading comments and issuances in this docket may do so at http://www.ferc.gov/docs-filing/docs-filing.asp.

FOR FURTHER INFORMATION CONTACT: Ellen Brown may be reached by email at DataClearance@FERC.gov, telephone at (202) 502-8663, and fax at (202) 273-0873.

SUPPLEMENTARY INFORMATION: Type of Request: Three-year extension of the information collection requirements for all collections described below with no changes to the current reporting requirements. Please note that each collection is distinct from the next.

Comments: Comments are invited on: (1) Whether the collections of information are necessary for the proper performance of the functions of the Commission, including whether the information will have practical utility; (2) the accuracy of the agency's estimates of the burden and cost of the collections of information, including the validity of the methodology and assumptions used; (3) ways to enhance the quality, utility and clarity of the information collections; and (4) ways to minimize the burden of the collections of information on those who are to respond, including the use of automated collection techniques or other forms of information technology.

FERC Form 2, Annual Report of Major Natural Gas Companies, & FERC Form 2A, Annual Report of Nonmajor Natural Gas Companies

OMB Control Nos.: 1902-0028 & 1902-0030.

Abstract: Pursuant to sections 8, 10 and 14 of the National Gas Act (NGA), (15 U.S.C. 717g-717m, Pub. L. 75-688), the Commission is authorized to make investigations and collect and record data, to prescribe rules and regulations concerning accounts, records and memoranda as necessary or appropriate for purposes of administering the NGA. The Commission includes the filing requirements in 18 CFR 260.1 and 260.2.

The forms provide information concerning a company's past performance. The information is compiled using a standard chart of accounts contained in the Commission's Uniform System of Accounts (USofA).² The forms contain schedules which include a basic set of financial statements: Comparative Balance Sheet, Statement of Income and Retained Earnings, Statement of Cash Flows, and the Statement of Comprehensive Income and Hedging Activities. Supporting schedules containing supplementary information are filed, including revenues and the related quantities of products sold or transported; account balances for various operating and maintenance expenses; selected plant cost data; and other information.

² See 18 CFR part 201.

The information collected in the forms is used by Commission staff, state regulatory agencies and others in the review of the financial condition of regulated companies. The information is also used in various rate proceedings, industry analyses and in the Commission's audit programs and as appropriate, for the computation of annual charges based on Page 520 of the forms. The Commission provides the information to the public, interveners and all interested parties to assist in the proceedings before the Commission.

Print versions of the Forms 2 and 2A are located on the Commission's Web site at http://www.ferc.gov/docs-filing/forms.asp#2.

Type of Respondent: Each natural gas company whose combined gas transported or stored for a fee exceed 50 million dekatherms in each of the previous three years must file the Form 2. Each natural gas company not meeting the filing threshold for the Form 2 but having total gas sales or volume transactions exceeding 200,000 dekatherms in each of the previous three calendar years must submit the Form 2A.

Estimate of Annual Burden: The Commission estimates the annual public reporting burden for the information collections as:

³ The estimates for cost per response are derived using the following formula: Average Burden Hours per Response

* $70.50 per Hour = Average Cost per Response. The hourly cost figure of $70.50 is the average FERC employee wage plus benefits. We assume that respondents earn at a similar rate.

FERC Form No. 2—Annual Report of Major Natural Gas Companies and FERC Form No. 2A: Annual Report of Nonmajor Natural Gas Companies
| Number of respondents | Annual number of responses per respondent | Total number of responses | Average burden hours and cost per response ³ | Total annual burden hours and total annual cost | Cost per respondent ($)
| (1) | (2) | (1)*(2)=(3) | (4) | (3)*(4)=(5) | (5)÷(1)
FERC Form No. 2 | 92 | 1 | 92 | 1,629 $114,844.50 | 149,868 $10,565,694 | $114,844.50
FERC Form No. 2A | 66 | 1 | 66 | 253.39 $17,864 | 16,724 $1,179,042 | 17,864

FERC-523, Applications for Authorization for Issuance of Securities or the Assumption of Liabilities

OMB Control No.: 1902-0082.

Abstract: Under Federal Power Act (FPA) section 204, 16 U.S.C. 824c, no public utility or licensee shall issue any security, or assume any obligation or liability as guarantor, endorser, surety, or otherwise in respect of any security of another person, until the public utility applies for and receives Commission approval by order authorizing the issue or assumption of the liability. The Commission issues an order if it finds that such issue or assumption (a) is for lawful object, within the corporate purposes of the applicant and compatible with the public interest, which is necessary or appropriate for or consistent with the proper performance by the applicant as a public utility, and which will not impair its ability to perform that service, and (b) is reasonably necessary or appropriate for such purposes.

The Commission uses the information contained in filings to determine its acceptance and/or rejection of applications for authorization to either issue securities or to assume an obligation or liability by the public utilities and their licensees who submit these applications.

The specific application requirements and filing format are found at 18 CFR part 34; and 18 CFR 131.43 and 131.50. The information is filed electronically.

Type of Respondent: Public utilities subject to the FPA.

Estimate of Annual Burden: The Commission estimates the annual public reporting burden for the information collection as:

⁴ The estimates for cost per response are derived using the following formula: Average Burden Hours per Response * $70.50 per Hour = Average Cost per Response. The hourly cost figure of $70.50 is the average FERC employee wage plus benefits. We assume that respondents earn at a similar rate.

⁵ Some respondents may be required to provide more than one response.

FERC-523—Applications for Authorization for Issuance of Securities or the Assumption of Liabilities
| Number of respondents | Annual number of responses per respondent | Total number of responses | Average burden hours and cost per response ³ | Total annual burden hours and total annual cost | Cost per respondent ($)
| (1) | (2) | (1)*(2)=(3) | (4) | (3)*(4)=(5) | (5)÷(1)
FERC-523 | 56 | ⁵ 1.6 | 90 | 500 $35,250 | 45,000 $3,172,500 | $56,652

Dated: May 7, 2014.
Kimberly D. Bose,
Secretary.

[FR Doc. 2014-11020 Filed 5-13-14; 8:45 am]

BILLING CODE 6717-01-P